NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before January 10, 2007. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: requestschedule@nara.gov.

FAX: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending (Note that the new time period for requesting copies has changed from 45 to 30 days after publication):

1. Department of Agriculture, Agricultural Marketing Service (N1-136-06-1, 1 item, 1 temporary item). Master data file associated with an electronic information system used to collect information and report on the grading of poultry and related billing matters. This schedule authorizes the agency to apply the proposed disposition instructions to any recordkeeping medium.

2. Department of Agriculture, Agricultural Marketing Service (N1-136-06-5), 4 items, 4 temporary items). Records of a system used by the Science and Technology Program to provide vital records protection and ready reference assistance. The schedule authorizes the agency to apply the proposed disposition instructions to any recordkeeping medium.

3. Department of Agriculture, Cooperative State Research, Education, and Extension Service (N1-540-06-4, 11 items, 9 temporary items). Inputs, outputs, master files, and documentation relating to a data warehouse that provides a centralized source of information on research, education, and extension programs of the agency and its partner institutions in the areas of food, agriculture, and natural resources. Scheduled for permanent retention are recordkeeping copies of 4-H enrollment data and the documentation needed to access and maintain those files. Records with significant research value pertaining to related agency programs are scheduled separately for permanent retention.

4. Department of Agriculture, Cooperative State Research, Education, and Extension Service (N1-540-07-1, 6 items, 6 temporary items). Reports on funding and staffing levels for research projects and salary information from institutions which receive agency funding, along with working files and other supporting documentation. Records with significant research value are captured in the Current Research Information System, which has been scheduled as permanent.

5. Department of the Army, Agency-wide (N1-AU-06-2, 1 item, 1 temporary item). Records related to administrative actions taken to correct conduct deficiencies of soldiers. Included are copies of administrative reprimands, admonitions, and censures of a non-punitive nature. This schedule authorizes the agency to apply the proposed disposition instructions to any recordkeeping medium.

6. Department of the Army, Agency-wide (N1-AU-06-9, 3 items, 3 temporary items). Records relating to granting and tracking absences from military posts including leave requests, control logs, and military passes. This schedule authorizes the agency to apply the proposed disposition instructions to any recordkeeping.

7. Department of the Army, Agency-wide (N1-AU-06-15, 2 items, 2 temporary items). Records relating to the certification and management of facilities storing arms, ammunition, and explosives. This schedule authorizes the agency to apply the proposed disposition instructions to any recordkeeping medium.

8. Department of Defense, Army and Air Force Exchange Service (N1-334-06-1, 4 items, 4 temporary items). Cash count and reconciliation records for routine and surprise audits of cashier drawers and vaults.

9. Department of Defense, Defense Logistics Agency (N1-361-04-1, 12 items, 12 temporary items). Records created by the Environmental Quality Program, including environmental inquiries, environmental training records, records relating to disposal of low-level waste materials, and reports, studies and related correspondence on the agency's Installation Restoration Program.

10. Department of Defense, Office of the Secretary of Defense (N1-330-06-1, 1 item, 1 temporary item). Master files associated with an electronic information system used to review export license requests. Included are export licensing data received from government agencies.

11. Department of Health and Human Services, Administration on Aging (N1-439-06-3, 22 items, 22 temporary items). Records accumulated by the Center for Management including Deputy Assistant Secretary's schedules; executive officer's administrative files; budget formulation files; financial management files; grants award, program support, and working files; copies of personnel files; administrative policies and procedures directives; working copies of organizational analysis files; copies of routine procurement and acquisition files; copies of printing, binding, duplication, and distribution files; HHS University registration files; Work and Life Program files; continuity of operation plan files; and Office of Administrative Services working files.

12. Department of Health and Human Services, Food and Drug Administration (N1-88-06-4, 5 items, 4 temporary items). Records accumulated by the Center for Drug Evaluation and Research including advertisement and promotional labeling pieces and associated materials received for review; enforcement case files for drug advertisements found to be in violation of the FDA regulations; and master files and outputs associated with electronic tracking systems used during the drug advertisement and promotional labeling review process. Proposed for permanent retention are recordkeeping copies of closeout records of enforcement case files. For all items on this schedule except the master files, the agency is authorized to apply the proposed disposition instructions to any recordkeeping medium.

13. Department of Homeland Security, U.S. Citizenship and Immigration Service (N1-566-06-3, 4 items, 4 temporary items). Inputs, outputs, master files, and documentation associated with an electronic system used to conduct background checks on applicants/petitioners seeking benefits under the Immigration and Nationality Act. The agency proposes a 75 year retention for the master files.

14. Department of Homeland Security, United States Secret Service (N1-87-06-2, 4 items, 2 temporary items). Inputs and outputs associated with an electronic system used to collect and analyze threatening correspondence directed at the President, Vice-President, and other high-ranking government officials. Proposed for permanent retention are the master files and system documentation.

15. Department of Housing and Urban Development, Office of Community Planning and Development (N1-207-07-1, 2 items, 2 temporary items). Case files on appeals and civil cases filed under statutes relating to real estate acquisition and relocation programs.

16. Department of Justice, Federal Bureau of Investigation (N1-65-06-15, 1 item, 1 temporary item). This schedule requests authority to destroy case number 70C-OC-58332, which pertains exclusively to the investigation of the captioned individual and meets the criteria in previous schedule N1-65-88-3 for permanent retention. This request responds to a Federal Pre-Trial Diversion Program court order to delete the records of the captioned individual.

17. Department of Justice, Federal Bureau of Investigation (N1-65-06-16, 1 item, 1 temporary item). This schedule requests authority to destroy within case number 281A-NK-92575 all documents pertaining to a specific individual, who is not the subject of the investigation. The case file meets the criteria in N1-65-88-3 for permanent retention. This request responds to a Federal Pre-Trial Diversion Program court order to delete the records of the individual.

18. Department of Justice, Federal Bureau of Investigation (N1-65-07-2, 2 items, 2 temporary items). Paper and electronic versions of correspondence with other law enforcement agencies relating to identifying and locating wanted fugitives who are receiving federally funded benefits contrary to law.

19. Department of Justice, National Drug Intelligence Center (N1-523-06-1, 7 items, 3 temporary items). Records relating to the agency's liaison and outreach activities with Congress and other Federal, State, and local organizations. Included are copies of speeches, presentations, and correspondence documenting the agency's public counterdrug efforts. Proposed for permanent retention are recordkeeping copies of records related to the Counterdrug Intelligence Coordinating Group and Counterdrug Intelligence Executive Secretariat and mission-related liaison records of high-ranking agency officials.

20. Department of State, Bureau of Diplomatic Security (N1-59-07-2, 3 items, 3 temporary items). Records associated with emergency security support for overseas posts as well as training records related to overseas security matters and mobile security deployments.

21. Department of Transportation, Federal Aviation Administration (N1-237-06-2, 12 items, 6 temporary items). Records relating to the Aviation and Space Education program including records of meetings with stakeholders, regional partnership case files, inputs and outputs associated with an electronic database tracking outreach activities, and employee volunteer case files. Proposed for permanent retention are the recordkeeping copies of files documenting the program's history, organization and accomplishments; program correspondence; national partnership case files; master files and system documentation associated with an electronic database tracking outreach activities; and records documenting the establishment and operation of national and regional education programs.

22. Department of Transportation, National Highway Traffic Safety Administration (N1-416-05-2, 37 items, 26 temporary items). Records of the Office of Communications and Consumer Information, including newsclips, reading files, staff directories, listserv records, weekly reports, project tracking systems, the Web site, and event planning, exhibit, and research files. Proposed for permanent retention are recordkeeping copies of the Administrator's speeches and presentations, press releases, audiovisual materials with their finding aids, and newsletters.

23. Department of the Treasury, Office of the Comptroller of the Currency (N1-101-06-2, 4 items, 4 temporary items). Retiree case files and inputs, master files, and system documentation for a database tracking employee retirement benefits.

24. Environmental Protection Agency (N1-412-06-24, 4 items, 4 temporary items). Software, electronic data on participating agencies, e-mail identification and verification data, and supporting documentation associated with a Web-based portal providing public access to Federal regulatory dockets for which the agency is the overall managing partner.

25. Environmental Protection Agency (N1-412-07-1, 25 items, 25 temporary items). This schedule authorizes the agency to apply the existing disposition instructions to a number of records series regardless of recordkeeping medium. Included are special study files, audit, evaluation, and investigation response files, congressional correspondence, Federal facilities monitoring files, requests for correction or reconsideration in regard to information quality, legislation files, quality assurance project plans, intra-agency and internal committee records, state and other entity relations and oversight files, compliance files, ombudsman and citizen complaint files, Federal Register notice files, environmental awards files, confidential business information access records, and bid protest appeals files. Paper recordkeeping copies of these files were previously approved for disposal.

26. Environmental Protection Agency (N1-412-07-2, 24 items, 9 temporary items). This schedule authorizes the agency to apply the existing disposition instructions to a number of records series regardless of recordkeeping medium. Included are the following series for which the paper recordkeeping copies have previously been approved for disposal: Summaries of Clean Air Act review and comment files, unpublished regulations and guidelines, routine enforcement action files, staff members' manuscripts that are not mission-related, and records of routine international activities and agreements. Included are the following series for which the paper recordkeeping copies have previously been approved as permanent: FOIA annual reports, management studies, organizational plans, National Environmental Policy Act preparation files, Clean Air Act review and comment files, published regulations and guidelines, reports to Congress and the President, authorization and approval files for programs run by states and other non-Federal entities, landmark or precedent-setting enforcement action files, administrative records pursuant to the Administrative Procedure Act, final drafts of mission-related manuscripts by agency personnel, and records of significant international activities and agreements.

27. Federal Energy Regulatory Commission, Office of Energy Projects (N1-138-06-1, 1 item, 1 temporary item). Records relating to preliminary filings by companies applying for certificates to operate natural gas pipelines. Included are environmental assessments, public notices, and related correspondence.

28. Securities and Exchange Commission, Office of Inspector General (N1-266-05-2, 11 items, 9 temporary items). Case files and tracking systems pertaining to internal and external audits and investigations. Included are non-substantive case files and master files and outputs of tracking systems. Proposed for permanent retention are recordkeeping copies of final audit reports and investigative case files involving senior agency officials that result in serious disciplinary action, substantive changes in policy, or draw Congressional interest or national media attention.

29. Small Business Administration, Administrative Information Branch (N1-309-05-19, 4 items, 4 temporary items). Inputs, outputs, master files, and documentation associated with an electronic information system used as a repository of success stories based on assistance from the agency.

30. United States Institute of Peace, Education Program (N1-573-07-1, 1 item, 1 temporary item). Entry and evaluation forms for the National Peace Essay Contest.

Dated: December 1, 2006.
Michael J. Kurtz,
Assistant Archivist for Records Services—Washington, DC.

[FR Doc. E6-20995 Filed 12-8-06; 8:45 am]

BILLING CODE 7515-01-P